NATIONAL ARCHIVES AND RECORDS ADMINISTRATION

Agency Information Collection Activities: Proposed Collection; Comment Request

AGENCY: National Archives and Records Administration (NARA).

ACTION: Notice.

SUMMARY: NARA is giving public notice that the agency proposes to request use of four (4) National Archives Trust Fund forms that will be used by individuals who wish to purchase copies of pages from Bankruptcy Cases (NATF 90), Civil Cases (NATF 91), Criminal Cases (NATF 92); and Court of Appeals Cases (NATF 93). The public is invited to comment on the proposed information collection pursuant to the Paperwork Reduction Act of 1995.

DATES: Written comments must be received on or before August 22, 2005 to be assured of consideration.

ADDRESSES: Comments should be sent to: Paperwork Reduction Act Comments (NHP), Room 4400, National Archives and Records Administration, 8601 Adelphi Rd, College Park, MD 20740-6001; or faxed to (301) 837-3213; or electronically mailed to tamee.fechhelm@nara.gov.

FOR FURTHER INFORMATION CONTACT: Requests for additional information or copies of the proposed information collection and supporting statement should be directed to Tamee Fechhelm at telephone number (301) 837-1694, or fax number (301) 837-3213.

SUPPLEMENTARY INFORMATION: Pursuant to the Paperwork Reduction Act of 1995 (Pub. L. 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; and (d) ways, including the use of information technology, to minimize the burden of the collection of information on respondents; and (e) whether small businesses are affected by this collection. The comments that are submitted will be summarized and included in the NARA request for Office of Management and Budget (OMB) approval. All comments will become a matter of public record. In this notice, NARA is soliciting comments concerning the following information collection:

Title: Order Forms for U.S. Court Records in the National Archives.

OMB number: 3095-NEW.

Agency form number: NATF Forms 90, 91, 92, and 93.

Type of review: Regular.

Affected public: Individuals or households.

Estimated number of respondents: 76,222.

Estimated time per response: 10 minutes.

Frequency of response: On occasion.

Estimated total annual burden hours: 12,704 hours.

Abstract: Submission of requests on a form is necessary to handle in a timely fashion the volume of requests received for these records (approximately 73,334 per year for the NATF 90, approximately 1,426 per year for the NATF 91, approximately 1,312 per year for the NATF 92, approximately 150 per year for the NATF 93) and the need to obtain specific information from the researcher to search for the records sought. As a convenience, the form will allow researchers to provide credit card information to authorize billing and expedited mailing of the copies. NARA is exploring the option of allowing researchers to use Order Online: (http://www.archives.gov/research_room/obtain_copies/military_and_genealogy_order_forms.html) to complete the forms and order the copies.

Dated: June 15, 2005.
Shelly L. Myers,
Deputy Chief Information Officer.

[FR Doc. 05-12127 Filed 6-20-05; 8:45 am]

BILLING CODE 7515-01-P